DEPARTMENT OF TRANSPORTATION

Research and Special Programs Administration

Notice to Operators of Natural Gas and Hazardous Liquid Pipelines To Encourage Continued Implementation of Safe Excavation Practices

AGENCY: Research and Special Programs Administration (RSPA), DOT.

ACTION: Notice: Protecting buried pipelines by using safe excavation practices.

SUMMARY: RSPA is issuing this advisory notice to operators of natural gas and hazardous liquid pipelines to remind them of the importance of safe excavation practices. We have also asked our partners in the Common Ground Alliance, a new national non-profit damage prevention organization, and the Associated General Contractors of America and the National Utility Contractors Association, to help distribute this advisory.

I. Supplementary Information

Several recent incidents have provided the impetus to remind the pipeline operators of the importance of safe excavation practices. Increase in construction activity coincides with the arrival of spring in many parts of the country and extends through the summer months. Construction activity requires excavators to work around buried pipelines and other underground facilities, such as water, sewer, electrical and phone lines. Many private citizens also undertake excavation projects in the spring and summer months such as gardening, installing mailboxes, outdoor lights and other projects that require digging. Figures for excavation damage from RSPA's Office of Pipeline Safety (OPS) show an upward trend in the warmer months.

To protect construction workers and the general public and to guard the integrity of the nation's underground infrastructure, RSPA has implemented several damage prevention programs.

These programs were developed in partnership with pipeline operators, excavators, one-call centers, locators, state pipeline safety agencies, and others involved in damage prevention for underground facilities.

The Common Ground Study, issued by OPS, contains best practices for all phases of damage prevention. In particular, pipeline operators need to provide accurate maps of their facilities to one-call centers; these maps must be updated regularly to reflect any changes. When locate requests are received, facility operators need to be sure that their facilities are marked in a timely and accurate manner whether this is done by operator staff or by contract locators. When facility operators are excavating, they need to call for locates of other facilities, observe the markings of those facilities and take care to avoid coming into contact with other lines while digging. RSPA urges pipeline operators to review the procedures identified in this study and to implement them.

The Common Ground Study can be viewed on line at www.commongroundalliance.com.

These best practices have been adopted by many professional associations including the Associated General Contractors, the National Utility Contractors Association, National Utility Locating Contractors Association and others in the damage prevention community. Promotion of these practices is now under the auspices of the Common Ground Alliance (CGA) which represents virtually every segment of the damage prevention community. CGA has also assumed responsibility for promotion of the Dig Safely Campaign launched by DOT in 1999 which identified four key steps in safe excavation:

—Call Before You Dig

—Wait the Required Time in Your State for Operators to Mark Their Facilities

—Observe Marks Indicating the Presence of Facilities When You Dig

—Dig With Care-protect both yourself and the facilities where you are digging.

The National Transportation Safety Board has recommended an important additional step, that excavators should notify the pipeline operator immediately if their work damages a pipeline and that excavators should call 911 immediately if the damage results in a release of natural gas or other hazardous substances or potentially endangers, life, health or property.

II. Advisory Bulletin (ADB-02-01)

To: Owners and Operators of Natural Gas and Hazardous Liquid Pipeline Systems

Subject: Notification to Stress the Importance of Safe Excavation Practices

Advisory: The arrival of warmer weather coincides with a significant increase in construction activity both by professional excavators and home owners and renters. To protect excavators and private citizens from injury and to guard the integrity of buried pipelines and other underground facilities, OPS reminds all concerned to implement the best practices of the Common Ground Study and the four steps of the Dig Safely Campaign.

—Call Before You Dig

—Wait the Required Time in Your State for Operators to Mark Their Facilities

—Observe Marks Indicating the Presence of Facilities When You Dig

—Dig With Care-protect both yourself and the facilities where you are digging.

We ask pipeline operators to undertake the following steps as part of their damage prevention efforts:

—increasing their vigilance on right-of-way inspections;

—reviewing their own procedures for following up on locate requests;

—ensuring that operator employees and contract employees follow Best Practices; and

—increasing outreach efforts to the excavator community during the spring season.

Issued in Washington, DC, on May 17, 2002.
Stacey L. Gerard,
Associate Administrator for Pipeline Safety.

[FR Doc. 02-13142 Filed 5-23-02; 8:45 am]

BILLING CODE 4910-60-P